DEPARTMENT OF ENERGY

Federal Energy Regulatory Commission

Notice of Intent To File an Application for a New License

December 15, 2000.

a. Type of Filing: Notice of Intent to File An Application for a New License.

b. Project No: 199.

c. Date Filed: November 20, 2000.

d. Submitted By: South Carolina Public Service Authority—current licensee.

e. Name of Project: Santee Cooper Hydroelectric Project.

f. Location: On the Santee and Cooper Rivers, in Berkeley, Calhoun, Clarendon, Orangeburg, and Sumter Counties, South Carolina. The project occupies U.S. lands in the Francis Marion National Forest.

g. Filed Pursuant to: Section 15 of the Federal Power Act.

h. Licensee Contact: John Dulude, South Carolina Public Service Authority, One Riverwood Drive, P.O. Box 2946101, Moncks Corner, SC 29461 (843) 761-4046.

i. FERC Contact: Ron McKitrick, ronald.mckitrick@ferc.fed.us, (770) 452-3778.

j. Effective date of current license: May 1, 1979.

k. Expiration date of current license: March 31, 2006.

l. Description of the Project: The project consists of the following two developments:

The Santee Development consists of the following existing facilities: (1) The 50-foot-high, 7.5-mile-long Santee Dam comprised of: (i) a north earthen embankment dam; (ii) a gated concrete spillway section; and (iii) a south earthen embankment dam; (2) the 97, 274-acre Lake Marion reservoir; (3) a powerhouse, integral with the dam, containing a single generating unit with an installed capacity of 2 MW, (4) a 23-mile-long, 33-kV transmission line; and (5) other appurtenances.

The Cooper Development consists of the following existing facilities: (1) The 100-foot-high, 2.1-mile-long Pinopolis Dam comprised of: (i) the east and west earthen embankment dams; and (ii) the east, west, and north dikes; (2) the 55,394-acre Lake Moultrie reservoir; (3) the Jefferies powerhouse, integral with the dam, containing five generating units with a total installed capacity of 132 MW, (4) a 4.5-mile-long tailrace canal connecting with the Cooper River; (5) a 115-kV transmission line; (6) a 7.5-mile-long diversion canal connecting Lake Marion and Lake Moultrie; (7) a 60-foot-wide, 180-foot-long navigational lock; and (8) other appurtenances.

m. Each application for a new license and any competing license applications must be filed with the Commission at least 24 months prior to the expiration of the existing license. All applications for license for this project must be filed by March 31, 2004.

David P. Boergers,
Secretary.

[FR Doc. 00-32534 Filed 12-20-00; 8:45 am]

BILLING CODE 6717-01-M